DEPARTMENT OF ENERGY

Federal Energy Regulatory Commission

[Docket No. CP07-191-001]

Port Dolphin Energy, LLC; Notice of Limited Scoping for the Proposed Port Dolphin Project and Request for Comments on Environmental Issues

February 4, 2008.

The Federal Energy Regulatory Commission (FERC or Commission) is cooperating with the U.S. Coast Guard (Coast Guard), the lead federal agency for environmental review of the Port Dolphin Project. This proposal involves the construction and operation of an offshore liquefied natural gas (LNG) deepwater port (under the jurisdiction of the Coast Guard and the Maritime Administration) and associated pipeline facilities, including about 3.9 miles of onshore pipeline under the Commission's jurisdiction. FERC staff is assisting the Coast Guard in its preparation of an environmental impact statement (EIS) that will discuss the environmental impacts of the Port Dolphin Project. This cooperative effort is to comply with the National Environmental Policy Act of 1969 (NEPA), which requires the Commission to take into account the environmental impact that could result from an action whenever it considers the issuance of a Certificate of Public Convenience and Necessity under section 7 of the Natural Gas Act.

NEPA requires the FERC to discover and address concerns the public may have about proposals under its review. This process is referred to as “scoping.” On January 18, 2008, Port Dolphin Energy, LLC (Port Dolphin) amended its application with the FERC regarding the proposed onshore pipeline route. Thus, the FERC is opening a scoping period to solicit input from the public and interested agencies limited to the proposed onshore pipeline and related facilities (i.e., those under FERC jurisdiction) in Manatee County, Florida. Your input will help determine which issues need to be evaluated in the EIS.¹ Please note that the scoping period will close on March 5, 2008, and comments should be limited to the onshore facilities described in this amended docket. Details on how to submit comments are provided in the Public Participation section of this notice.

¹ For more information on the overall Port Dolphin Project or the Coast Guard's EIS process, see the July 12, 2007 edition of the Federal Register, page 38,116, “Port Dolphin Energy, LLC, Port Dolphin Energy Liquefied Natural Gas Deepwater Port License Application” under Department of Transportation/Maritime Administration.

If you are a landowner receiving this notice, you may be contacted by a pipeline company representative about the acquisition of an easement to construct, operate, and maintain the proposed facilities. Port Dolphin would seek to negotiate a mutually acceptable agreement. However, if the project is approved by the Commission, that approval conveys with it the right of eminent domain. Therefore, if easement negotiations fail to produce an agreement, Port Dolphin could initiate condemnation proceedings in accordance with Florida state law.

This notice is being sent to affected landowners; federal, state, and local government representatives and agencies; elected officials; Native American tribes; other interested parties; and local libraries and newspapers. State and local government representatives are asked to notify their constituents of this proposed project and to encourage them to comment on their areas of concern.² If you received this notice, you are on the environmental mailing list for this project and will continue to receive project updates including the draft and final EISs.

² Comments submitted during the Coast Guard's scoping period (July 12-August 13, 2007) for the project as originally proposed do not need to be resubmitted.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Proposed Project (FERC Jurisdictional Facilities)

Port Dolphin proposes to construct about 3.93 miles of 36-inch-diameter pipeline extending from the high water mark in Manatee County (where the offshore pipeline comes ashore) to a new interconnection station (also in Manatee County), where the pipeline would join with the interstate Gulfstream Natural Gas Pipeline and the intrastate TECO/Peoples Pipeline systems. Associated valves and appurtenant facilities are also proposed.

The general location of the proposed onshore pipeline is shown in appendix 1.³

³ The appendices referenced in this notice are not being printed in the Federal Register. Copies are available on the Commission's Internet Web site (http://www.ferc.gov) at the “eLibrary” link or from the Commission's Public Reference Room at 888 First Street, NE., Washington, DC 20426, or call (202) 502-8371. For instructions on connecting to eLibrary, refer to the “Additional Information” section at the end of this notice. Copies of the appendices were sent to all those receiving this notice in the mail. Requests for detailed maps of the proposed facilities should be made directly to Port Dolphin.

Land Requirements for Construction

The construction right-of-way would be 100 feet wide, of which 30 feet would be retained as permanent right-of-way. A total of about 63.6 acres of land would be affected by pipeline construction. Of this, about 13.8 acres would be permanently impacted for operation. The proposed interconnections would be constructed on property owned by Port Dolphin and would encompass a 120-foot by 1,319-foot permanent footprint. The valve station would encompass a 50-foot by 60-foot permanent footprint.

The majority (about 56 percent) of the land crossed by the pipeline route is either classified as urban/industrial (e.g., commercial land and other utility rights-of-way) or as agricultural/rangeland. The remaining land comprises upland forest, wetland, and surface water (e.g., ponds, canals, and ditches).

Public Participation

You can make a difference by providing us with your specific comments or concerns about the project. By becoming a commentor, your concerns will be addressed in the EIS and considered by the Commission. You should focus on the potential environmental effects of the proposal, alternatives to the proposal including alternative pipeline routes, and measures to avoid or lessen environmental impact. The more specific your comments, the more useful they will be. Please carefully follow these instructions to ensure that your comments are received in time and properly recorded:

• Send an original and two copies of your letter to: Kimberley D. Bose, Secretary, Federal Energy Regulatory Commission, 888 First St., NE.; Room 1A, Washington, DC 20426.

• Label one copy of the comments for the attention of Gas Branch 1.

• Reference Docket No. CP07-191-001.

• Mail your comments so that they will be received in Washington, DC on or before March 5, 2008.

The Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

Becoming an Intervenor

In addition to involvement in the EIS scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the “eLibrary” link. Click on the eLibrary link, click on “General Search” and enter the full docket number (i.e., CP07-191-001) in the docket number field. Be sure you have selected an appropriate date range. For assistance, please contact FERC Online Support at FercOnlineSupport@ferc.gov or toll-free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. E8-2422 Filed 2-8-08; 8:45 am]

BILLING CODE 6717-01-P